DEPARTMENT OF THE INTERIOR

National Park Service

36 CFR Part 7

RIN 1024-AC82

Special Regulations, Areas of the National Park System

AGENCY: National Park Service, Interior.

ACTION: Proposed rule.

SUMMARY: The National Park Service (NPS) is proposing to phase out snowmobile use in Yellowstone National Park, the John D. Rockefeller, Jr., Memorial Parkway, and, with some exceptions, in Grand Teton National Park, and to prohibit snowplane use in Grand Teton National Park, by the winter of 2003-2004. We also are proposing interim measures to limit the impacts of snowmobiles before their use is prohibited. This proposal is in conjunction with the Winter Use Management Plan and FEIS written for the three NPS areas and implements provisions of the Record of Decision from that Management Plan. That Record of Decision, overall, will shift oversnow motorized use of the parks from snowmobile use to snowcoach use, to allow continued winter use of the parks while eliminating the impacts on park resources and values from snowmobile use.

DATES: Written comments will be accepted through January 17, 2001.

ADDRESSES: Comments should be addressed to: National Park Service, Ranger Activities Division, 1849 C Street, NW., Room 7408, Washington, DC 20240. Fax: (202) 208-6756. Email: WASO_Regulations@nps.gov.

FOR FURTHER INFORMATION CONTACT: Kym Hall, Regulations Program Manager, National Park Service, 1849 C Street, N.W., Room 7413, Washington, DC 20240. Telephone: (202) 208-4206. Fax: (202) 208-6756. Email: Kym_Hall@nps.gov.

SUPPLEMENTARY INFORMATION:

Background

Much of the public use of these three parks in winter is snowmobile use. In the winter of 1999-2000, 76,571 visitor-days of snowmobile use occurred in Yellowstone, representing over 60 percent of all visitors, and 23,399 visitor-days of snowmobile use occurred in the Parkway. Less snowmobile use occurred in Grand Teton, with 1,329 visitor-days of snowmobile use on the Continental Divide Snowmobile Trail that traverses the park and 2,867 visitor-days of snowmobile use on other park trails. On Jackson Lake in Grand Teton, there also were 1,091 visitor-days of the use of snowplanes—ski-mounted motor vehicles, driven across the ice by rear-mounted propellers. In Yellowstone and the Parkway, snowcoaches—larger vehicles, comparable to passenger vans (which often are converted vans)—also operate on routes open to snowmobile use. This motorized, oversnow use of the parks is a relatively recent development, with virtually no such use present in the parks in the 1970s.

In May 1997, the National Park Service was sued in U.S. District Court for the District of Columbia by The Fund for Animals, Biodiversity Legal Foundation, Predator Project, Ecology Center, and five individuals for allegedly failing to comply with the National Park Service's Organic Act (16 U.S.C. 1-4), the National Environmental Policy Act of 1969 (NEPA), the Endangered Species Act (ESA), and other federal laws and regulations in connection with winter use in these three contiguous parks. The NPS subsequently settled the suit, in part, by an agreement to prepare a winter use plan for all three parks, based on a comprehensive environmental impact statement (EIS).

Nine cooperating agencies joined the NPS in the preparation of the EIS. They are the U.S. Forest Service; the States of Idaho, Montana, and Wyoming; and the Counties of Gallatin and Park, Montana, Park and Teton, Wyoming, and Fremont, Idaho. To develop the scope of the winter use plan, scoping brochures were mailed to about 6,000 interested parties, 12 public meetings were held in the Greater Yellowstone Area, 4 public meetings were held in other parts of the country, and about 2,000 public comments were considered. In July 1999, the NPS published a draft EIS for public comment. Five public hearings were held in the region, and one in Colorado. About 46,500 public comments were received by the December 1999 deadline.

Separately, in January 1999, the NPS received a petition for rulemaking from the Bluewater Network and some 60 other conservation organizations, requesting that we begin immediate rulemaking to prohibit snowmobile use within the 44 units of the national park system in which it is allowed, including the three parks involved in this rulemaking. That petition prompted an agency review of our policies and practices on snowmobile use in parks. As part of that review, the NPS conducted a survey of parks in which snowmobile use is currently allowed. The survey gathered information from each relevant park on such matters as the basis on which a decision was originally made to allow snowmobile use in that park; how extensive that use is; what is known about the impacts of that use on park resources and values, including the enjoyment of other visitors; and what monitoring, if any, is conducted to determine those impacts. Additionally, the NPS also held a two-day snowmobile “summit” in February 2000 at which officials from the Department of the Interior (including the Office of the Solicitor) and the National Park Service (including all but one of the 44 affected parks) reviewed the snowmobile use now occurring in the national park system. We learned through the survey and the snowmobile “summit” that much of the snowmobile use that occurs in the national park system is not consistent with management objectives or the protection of park resources and values, and is not in compliance with the requirements of the two executive orders and the NPS general regulations on snowmobile use.

In April 2000, the Department and NPS publicly announced an intention to propose changes in the snowmobile use allowed in parks, including the three parks involved here, to protect park resources and values, to meet management objectives for the parks, and to come into compliance with the legal requirements applying to that use.

The final EIS (FEIS) for winter use in these three parks was published on October 10, 2000, and notice of its availability was published in the Federal Register on October 20, 2000. 65 FR 63,076. A Record of Decision on the winter use plan for the parks was signed on November 22, 2000. These regulations are necessary to implement portions of that decision, which generally emphasizes cleaner, quieter access to the parks using the technologies available today.

Existing Laws and Regulations

Snowmobile use in national parks is subject to the provisions of various laws and regulations, principally the NPS Organic Act, the Clean Air Act, two Executive Orders, and NPS regulations.

NPS Organic Act

Section 1 of the NPS Organic Act (16 USC 1) provides that the NPS:

* * * shall promote and regulate the use of the Federal areas known as national parks, monuments, and reservation * * * by such means and measures as conform to the fundamental purpose of the said parks, monuments, and reservations, which purpose is to conserve the scenery and the natural and historic objects and the wild life therein and to provide for the enjoyment of the same in such manner and by such means as will leave them unimpaired for the enjoyment of future generations.

This prohibition on impairment is the single most important statutory direction Congress has provided for the management of the national parks.

NPS Directors Order #55 details how the NPS interprets and implements the Organic Act's prohibition on impairment. Key elements include:

An impairment is defined to be an impact on a park's resources and values that harm the integrity of that park's resources and values. The Service may not allow the impairment of park resources and values, unless directly and specifically provided for by statute.

The resources and values to which this standard applies are a park's scenery, natural and historic objects, and wildlife; the natural forces and conditions that create and sustain those resources; and opportunities for public enjoyment of them. Resources and values that are particularly relevant to snowmobile use in these parks include, to the extent present in the parks, natural visibility, natural soundscapes and smells; water and air resources; soils; wilderness qualities; native plants and animals; and opportunities for public enjoyment of the parks' resources and values.

In its decision-making as to whether particular impacts to park resources and values constitute an impairment, the NPS must assure the preservation of the high public value and integrity of the national park system, the national dignity of parks, the superlative environmental quality of parks, and the important role of parks in providing benefit and inspiration for all the people of the United States.

When the NPS determines that an ongoing activity is causing an impairment, the Service must take appropriate action, to the extent possible within the Service's authorities and available resources, to eliminate the impairment.

Clean Air Act

The Clean Air Act includes several provisions relevant to snowmobile use in these national parks. Under the Clean Air Act, federal agencies must ensure that any activities occurring within federal lands do not cause or contribute to a violation of any State or National Ambient Air Quality Standards, set to protect the public from the harmful effects of air pollutants. Yellowstone and Grand Teton are Class I areas under the Prevention of Significant Deterioration program, meaning that they are subject to the strictest limits on the maximum allowable increases of air pollutants; only small increases in particulate matter (PM), nitrogen dioxide and sulfur dioxide are allowable. The Act also requires the prevention of any future impairment and the remedying of any existing visibility impairment in Class I federal areas. By EPA regulation, visibility impairment is defined as any perceptible change in visibility. EPA has published regulations to ensure reasonable progress toward the national visibility goal; in particular, states are required to develop plans to achieve steady and continuing reductions in emissions that contribute to visibility impairment, with the goal of restoring natural visibility by 2060. The Act provides that the NPS has an affirmative responsibility to protect the air quality related values of the parks. EPA has the authority under the Act to establish national standards for emissions of air pollutants from snowmobiles, but has not yet done so. If EPA does establish snowmobile emission standards, past practices indicate that there likely will be a few years before manufacturers are required to have newly-manufactured snowmobiles comply with the emission standards.

Executive Orders

Executive Order 11644 on off-road vehicle use, issued by President Nixon in 1972, provides, among other things, that snowmobile use may be allowed in national parks only if NPS determines that the snowmobile use on those areas and trails will not adversely affect the park's natural, aesthetic, or scenic values. It requires NPS to monitor the effects of authorized snowmobile use in parks. It also requires NPS; on the basis of the information gathered through that monitoring, to close or change the areas and trails open to snowmobile use as necessary to avoid adverse effects on the park's natural, aesthetic, or scenic values.

Executive Order 11989, also on off-road vehicle use, issued by President Carter in 1977, requires NPS, whenever it determines that the use of snowmobiles will cause or is causing considerable adverse effects on the natural resources of a park, to take steps to prevent those effects, including immediately halting that use.

NPS Regulations

NPS general regulations on snowmobile use, 36 CFR 2.18(c), state that:

The use of snowmobiles is prohibited, except on designated routes and water surfaces that are used by motor vehicles or motorboats during other seasons. Routes and water surfaces designated for snowmobile use shall be promulgated as special regulations. Snowmobiles are prohibited except where designated and only when their use is consistent with the park's natural, cultural, scenic and aesthetic values, safety considerations, park management objectives, and will not disturb wildlife or damage park resources.”

The three parks subject to these proposed regulations have park specific regulations that designate areas and routes open to snowmobile (and snowplane) use.

Impacts to Park Resources and Values

The NPS has determined that the snowmobile use occurring in all three parks, and the snowplane use occurring in Grand Teton, harms the integrity of the resources and values of the parks, and therefore constitutes an impairment. We have also determined that the snowmobile use occurring in all three parks is inconsistent with the requirements of the Clean Air Act, Executive Orders 11644 and 11989, the NPS's general snowmobile regulations, and NPS management objectives for the parks. The types of impacts on which these determinations are based are summarized below.

Natural Soundscapes

The impact of noise from snowmobiles and snowplanes on the natural soundscapes of all three parks is one of the reasons that their current use causes an impairment of the resources and values of the park, which is prohibited by the NPS Organic Act, is inconsistent with Executive Orders, NPS regulations, and NPS management objectives.

The NPS has drawn on four separate studies of the existing natural background and human-generated sound levels in the parks, as explained in the FEIS.

In open terrain with a quiet background, the sound of a single snowmobile is audible for about 4,120 feet, a group of four snowmobiles for 7,510 feet, and a single snowplane for 7,340 feet. By comparison, an automobile in the same circumstances is audible for 2,330 feet. According to daytime audibility monitoring, in Yellowstone, snowmobile noise can be heard 95 percent of the time by visitors at Old Faithful and 87 percent of the time at the Grand Canyon of the Yellowstone; in the Parkway, 63 percent of the time at Flagg Ranch; and in Grand Teton, snowmobile or snowplane noise can be heard 44 percent of the time at Colter Bay.

Wildlife

The impact on wildlife from snowmobile use is one of the reasons that the use causes an impairment of the resources and values of Yellowstone and in all three parks is inconsistent with Executive Orders, NPS regulations, and NPS management objectives.

The impact on wildlife from snowmobile use is documented not only in the FEIS but also in a report to the federal interagency Greater Yellowstone Coordinating Committee, Effects of Winter Recreation on Wildlife of the Greater Yellowstone Area: A Literature Review and Assessment (T. Olliff, K. Legg, and B. Kaeding, editors. 1999)

Snowmobile use in the parks takes place during the season when animals are most stressed by high snow depths, extreme cold, and food shortages. Disturbance or harassment of wildlife during this sensitive time can adversely affect individual animals and, in some cases, populations as a whole. One review, cited in the FEIS, of 232 publications on the impacts of recreation on wildlife concluded that recreational users, because of their numbers and sometimes inappropriate behavior, were causing severe impacts because of harassment and the habituation of particular species. In these parks, bison, elk, moose, and deer travel on roadways groomed for snowmobile use, which can lead to collisions with or other disturbance of the wildlife. Wildlife movements are also inhibited by traffic and snow berms created by plowing and grooming operations. Although bison habituate to snowmobiles to some degree, when there was a response to snowmobiles, most often the bison fled from the snowmobiles, with snowmobiles frequently herding them down the packed roadway. One study reported that 60 percent of all bison groups observed traveling on groomed roads had negative reactions to snowmobiles, with most of those reactions including running from the snowmobiles.

Air Quality

The impact on air quality from snowmobile use is one of the reasons that the use causes an impairment of the resources and values of Yellowstone and Grand Teton and in all three parks is inconsistent with Executive Orders, NPS regulations, and NPS management objectives.

The effects of snowmobiles on air quality in these parks are documented not only in the FEIS but also in the NPS report, Air Quality Concerns Related to Snowmobile Usage in National Parks (NPS 2000).

Even though snowmobiles are present in Yellowstone for only three months of the year and there are fewer of them than there are of other motor vehicles during the remainder of the year, the snowmobiles contribute more air pollution to the park than do other motor vehicles. The contribution from snowmobiles to total annual hydrocarbon emissions from all mobile sources can range from 68% to 90% at Yellowstone, depending on which emission factors are used to estimate emissions. Similarly, snowmobiles can contribute from 35% to 68% of total carbon monoxide annual emissions.

Air quality monitoring at Yellowstone's West Gate shows carbon monoxide levels approaching, although not exceeding, the standards for carbon monoxide levels, which are expressed in terms of maximum average concentrations over 8-hour and one-hour periods. Monitoring of carbon monoxide levels over shorter periods, during peak snowmobile use, show much higher concentrations. Employees at the entrance station have complained of adverse health effects from emissions from snowmobiles. In addition, monitoring in the wake of a snowmobile indicate that substantial carbon monoxide levels remain in the roadway, where other snowmobilers could be exposed to them. In 1993 and 1994, Yellowstone received over 1,200 complaint letters concerning employee and visitor health and excessive snowmobile pollution.

The Environmental Protection Agency, in comments on the FEIS, has noted that the maximum allowable increase for particulate matter under the Prevention of Significant Deterioration may have already been exceeded at Yellowstone, and that snowmobile emissions may be adding to that exceedance. Modeling suggests that to be the case.

Snowmobiles can cause localized, perceptible decreases in visibility near the West Entrance and Old Faithful in Yellowstone, near Flagg Ranch in the Parkway and, under certain viewing conditions, along heavily used roadway segments in those parks.

Water Quality

The impact on water quality from snowmobile and snowplane use in all three parks is one of the reasons that the use is inconsistent with Executive Orders, NPS regulations, and NPS management objectives.

Deposition of airborne pollutants from snowmobiles and snowplanes onto frozen lake surfaces and snowpack can lead to those pollutants entering groundwater and surface water when the snow and ice melts. In Yellowstone, studies have found that concentrations of ammonium, sulfate, benzene and toluene in the snowpack are correlated with the amount of oversnow traffic. Concentrations of ammonium and sulfate at the sites in the snowpacked roadways between West Yellowstone and Old Faithful were greater than those observed at any of the 50 to 60 other snowpack-sampling sites in the Rocky Mountain region. The use of snowmobiles and snowplanes directly on the frozen surface of Jackson Lake is likely causing the direct deposition of pollutants into lake water with ice and snowmelt, with the potential for a moderate to high adverse impact on water quality.

Effects on Other Visitors

The impact on other visitors from snowmobile use in all three parks is one of the reasons that the use causes an impairment of the resources and values of the parks and is inconsistent with Executive Orders, NPS regulations, and NPS management objectives.

Winter visitor surveys indicate that the most important factors for visitor enjoyment in the parks are opportunities to view scenery and wildlife, the safe behavior of others, and opportunities to experience clean air and solitude. As explained elsewhere in this background statement, snowmobiles can cause decreases in visibility and increased air pollution within the parks; disturb the natural presence and behavior of wildlife; interfere with the natural soundscapes of the parks, reducing a sense of solitude; and adversely affect public safety.

Safety Considerations

The impact on public safety from snowmobile use in all three parks is one of the reasons that the use is inconsistent with Executive Orders, NPS regulations, and NPS management objectives.

In the last 10 years, eight fatalities in Yellowstone resulted from snowmobile accidents. In 1994, 44 percent of all park fatalities resulted from snowmobile accidents. During the past five winters, 92 percent of all incidents requiring response from an NPS ranger involved snowmobiles, which account for 61 percent of all winter users. During all of fiscal year 1998, snowmobilers, who represent two percent of all park visitors in the year, were involved in nine percent of Yellowstone's motor vehicle accidents. In Grand Teton, the use of snowmobiles on the groomed surface of the Continental Divide Snowmobile Trail immediately adjacent to highways open to other motor vehicles is a particular safety concern. Similar co-location of that snowmobile trail and an open highway has contributed to automobile-snowmobile collisions outside of the park, with several injuries and one fatality resulting.

NPS Management Objectives

Prohibiting snowmobile use in Yellowstone and the Parkway, and snowplane and most snowmobile use in Grand Teton, and providing instead for greater winter use of the parks by snowcoaches, is consistent with NPS's management objectives for these parks. Doing so would reduce adverse impacts on park resources and values, better provide for public safety, and provide for public enjoyment of the parks in winter.

Snowcoaches have lower impacts on park resources and values than snowmobiles. For example, a single newer snowcoach, capable of carrying eight or more passengers, emits much lower levels of air pollutants and much less noise than a single snowmobile, which carries one or two passengers. Also, snowcoaches, operated by professional, trained drivers operating under NPS concession contracts or permits, are much less likely to be operated in a way that disturbs wildlife than snowmobiles. As a result, expanding the use of snowcoaches and eliminating most use of snowmobiles will make it possible to accommodate large numbers of winter visitors to the parks, while still preserving an enjoyable experience for most visitors and avoiding substantial adverse impacts on park resources.

If the NPS were to continue to allow snowmobiles in the parks (other than on short routes for limited purposes in Grand Teton), it would be necessary to establish very strict limitations on that use to remain consistent with the NPS Organic, the relevant Executive Orders, the NPS general snowmobile regulations, and other applicable requirements. Even with strict user limitations, however, snowmobiles would continue to have substantial adverse impacts on natural soundscapes, wildlife, air quality, the experience of other park visitors, and other park resources and values. The remaining impacts would be substantial enough that it might be necessary to also limit the number of other types of users, at least including snowcoach users, to ensure that overall winter visitor impacts would not unlawfully or unacceptably affect park resources and values. Rather than establishing limitations on both snowmobile and snowcoach users, the NPS prefers to eliminate most snowmobile use in the parks and allow unlimited access to the parks by snowcoach users and other visitors.

Other Legal Requirements

The NPS has been unable to find any evidence that the Service, before now, made the determinations required by Executive Order 11644—that snowmobile use in particular areas and on particular trails in these parks will not adversely affect the park's natural, aesthetic, or scenic values of the parks—before deciding to allow snowmobile use in the parks. Further, until making this proposal for new rules, the NPS has not complied with the requirement of that Executive Order that the Service rescind or amend the designation or areas open to snowmobile use as necessary to avoid adverse effects on the park's natural, aesthetic, or scenic values.

Also, prior to proposing this rule, the NPS has not complied with the requirement of Executive Order 11989 that the Service, whenever it determines that the use of snowmobiles will cause or is causing considerable adverse effects on the natural resources of a park, take steps to prevent those effects, including immediately halting that use.

The special regulation for Grand Teton National Park that designates the Potholes-Baseline Flats area as open to snowmobile use is inconsistent with the requirement in the NPS's general snowmobile regulation that snowmobiles may be allowed only on “designated routes and water surfaces that are used by motor vehicles or motorboats during other seasons.” 36 C.F.R. 2.18(c). The Potholes-Baseline Flats area is not open to motor vehicles during other seasons.

The NPS currently allows snowmobile use on the Continental Divide Snowmobile Trail in Grand Teton and the Parkway, although it has not been designated by regulation as a snowmobile route as required by the NPS's general snowmobile regulation.

Description of Proposed Rule

The proposed rule does not include any changes in regulations governing snowmobile and snowplane use for the winter of 2000-2001. By the time this proposed rule will be final, the winter season will be largely over, and there would not be adequate notice to users of any changes for the remainder of the winter. Instead, the NPS will take non-regulatory management actions this winter to reduce the impacts of snowmobile and snowplane use, as described in our Record of Decision on winter use in the parks.

The rule would add the Continental Divide Snowmobile Trail, in both Grand Teton and the Parkway, to the list of designated snowmobile trails, effective through the winter use season of 2002-2003. This trail, in both parks, is now open to snowmobile use, although it is not currently a designated route.

For the winter use season 2001-2002, the rule would establish numerical limits on the numbers of snowmobiles and snowplanes that may enter the parks through designated entrances, or that may use designated areas of the parks. The daily entrance limits proposed for this season are based on the average peak day of snowmobile use by entrance or road segment for snowmobile use figures collected over the last seven years. These limits are intended to prevent increases in use to occur on the busiest peak days of the season, while allowing current use patterns to continue.

Also for the winter of 2001-2002, the proposed rule will repeal the designation of five routes in Yellowstone and one area in Grand Teton that are included in the parks' current special regulations in 36 CFR Part 7, but that are not now actually open to snowmobile use. Those routes have not been open to use for some time, because of prior park management decisions that are reflected in the respective Superintendent's Compendium of park rules. The currently closed area in Grand Teton, the Pothole-Baseline Flats area, is an area not open to other motor vehicles in other seasons, so its designation is also inconsistent with the general NPS snowmobile regulation establishing criteria for routes eligible to be designated for snowmobile use.

For the winter of 2002-2003, for Grand Teton the rule would prohibit snowmobile and snowplane use on Jackson Lake in Grand Teton National Park and repeal the designations of all snowmobile trails in the park except for the Continental Divide Snowmobile Trail. For all three parks, the rule would establish numerical limits on snowmobile use in the parks. The limits have been chosen to lead to an approximate 50 percent reduction in snowmobiles entering Yellowstone's West and South Gates, where snowmobile use, and the impacts from that use, are greatest. The limits for this winter will require less change, if any, in other areas, where the snowmobile use and the impacts from it are lesser. Snowmobiles in Yellowstone would be limited to groups, and each group would have to be guided by an NPS-permitted guide, to reduce impacts on park resources and values (particularly wildlife) and to improve public safety. The rule would authorize the Superintendent to require snowmobiles to travel in groups, and to be guided by an NPS permitted guide in Grand Teton and the Parkway.

The following table summarizes current snowmobile use levels and the limits on that use to be established for the winters of 2001-2002 and 2002-2003.

Table 1.—Limits on Snowmobiles in Yellowstone (YNP), Rockefeller Parkway (JDRMP) and Grand Teton (GTNP)
Road segments | 7-year average daily use | 2001-2002 Daily limits | 2002-2003 Daily limits
YNP North Entrance | 41 | 60 | 60
YNP West Entrance | 555 | 1030 | 278
YNP East Entrance | 37 | 100 | 65
YNP South Entrance to JDRMP Flagg Ranch | 176 | 330 | 90
JDRMP Grassy Lake Road | 25 | 40 | 25
JDRMP CDST from Flagg Ranch to GTNP eastern park boundary | 25 | 70 | 25
GTNP Jackson Lake | 30 | 30 | 0
GTNP Tenton Park Road | 11 | 20 | 0
GTNP Moose-Wilson Road | 3 | 10 | 0

Effective the winter of 2003-2004, snowmobile use would be prohibited in Yellowstone, the Parkway, and in most areas of Grand Teton. Oversnow motorized access to the parks in this winter, and thereafter, will be by snowcoaches. Exceptions to the snowmobile prohibition will be certain relatively short routes in Grand Teton that provide snowmobile access to national forest areas open to snowmobile use under U.S. Forest Service management decisions, and to private property for which snowmobile access is the only reasonable, or an appropriate, means of access in winter. Access to these public lands and to private property within and adjacent to the park boundary are provided for in the enabling legislation for Grand Teton National Park. Snowmobile use on these routes would be limited to travel to the national forest areas and the private properties. For the routes to private properties, only the owners and their representatives or guests will be permitted to use those routes and only for access purposes, not recreational uses.

For all three parks, the rule includes several provisions that are intended to ensure safe and appropriate use of snowmobiles. These are mostly drawn from the Superintendent's Compendium of park rules for one or more of the parks. These provisions include prohibitions on excessive idling of snowmobiles, requirements that snowmobiles stopped on a designated route to be pulled over to the edge of the roadway, requirements that operators have valid motor vehicle operator or learner permits, and requirements that snowmobiles be properly registered and registration tags be appropriately displayed. The hours of snowmobile use will be restricted to avoid snowmobile operations during the early morning and late evening hours to mitigate safety concerns, to reduce conflicts with plowing or grooming operations, and to minimize the disturbance to wildlife.

Throughout the regulation there are references to designated routes being marked. It is important to note that because of the natural scenery in the park, the erection of signs will be kept to a minimum. Instead, the use of snow poles or other less intrusive markers will be used to help designate appropriate routes for snowmobile or snowcoach use. Additionally, the berms—large snow banks on the sides of the roads created by plowing or grooming—will also serve to designate the boundaries for snowmobile routes.

The proposed regulation will eliminate the impairment of park resources and values in Grand Teton by the winter of 2002-2003, and in Yellowstone and the Parkway by the winter of 2003-2004.

The NPS has determined, based on the FEIS and other studies and information, that the snowcoach use that we expect to occur in these parks, and the snowmobile use that will continue be allowed in Grand Teton in the winter of 2003-2004 and thereafter, will be consistent with the requirements of the NPS Organic Act, the relevant Executive Orders, and the NPS general regulations on snowmobile use.

We solicit comments on, first, any additional mitigation measures, beyond those identified in the FEIS and Record of Decision, that could be undertaken in conjunction with the proposed regulation to reduce the possible adverse economic impacts of it on small businesses. Second, we also solicit comments on any alternative approach to the proposed regulation—such as a limitation on the number of snowmobiles that may use a park in a day, a restriction on the distance any snowmobile may travel within a park in a day, a limitation on the hours of use of such snowmobiles, a restriction on use of snowmobiles to certain authorized routes, technical or mechanical changes to snowmobiles (e.g., better mufflers) that would be required to enable their use in the parks, or use fees or other market-based regulatory mechanisms—that could both accomplish the objectives and fulfill the requirements of the laws, executive orders, and regulations applying to snowmobile use in these parks and minimize any possible adverse economic impact of the proposed regulation on small businesses. Finally, we solicit comments on whether the schedule of changes in the proposed regulation should be changed, either (1) to implement one year sooner, in the winter of 2002-2003, the regulations identified in the proposal as taking effect in the winter of 2003-2004, thereby eliminating the impacts from snowmobile use sooner; or (2) to implement those regulations one year later, in the winter of 2004-2005, thereby reducing any possible adverse economic impact on small businesses.

Compliance with Other Laws

Regulatory Planning and Review

This document is a significant rule and has been reviewed by the Office of Management and Budget under Executive Order 12866.

(1)This rule will not have an effect of $100 million or more on the economy. It will not adversely affect in a material way the economy, productivity, competition, jobs, the environment, public health or safety, or State, local, or tribal governments or communities.

From the Final Environmental Impact Statement (FEIS), estimated economic output and employment impacts of implementing actions under this rule are: In the five-county, greater Yellowstone area, an estimated loss of 14.4 to 19.2 million dollars; in the three-state area surrounding the parks, a variance of a possible 17.7 million dollar loss to a 7.0 million dollar increase. Increased winter visitation from current summer visitors to the park under this management option could substantially offset the estimated losses and employment reductions from current winter visitors.

(2) This rule will not create a serious inconsistency or otherwise interfere with an action taken or planned by another agency.

Implementing actions under this rule will not interfere with wither agencies or local government plans, policies, or controls. This is an agency specific change.

(3) This rule does not alter the budgetary effects or entitlements, grants, user fees, or loan programs or the rights or obligations of their recipients.

This rule will only address the recreational use of over-snow machines within specific national parks. No grants or other forms of monetary supplement are involved.

(4) This rule may raise novel legal or policy issues.

The issue of the prohibition of snowmobile use has generated local as well as national interest on the subject in the greater Yellowstone area. Subsequently, tens of thousands of public comments have been received and analyzed in the development of the supporting FEIS and Winter Use Management Plan.

Regulatory Flexibility Act

The Department of the Interior certifies that this document will not have a significant economic effect on a substantial number of small entities under the Regulatory Flexibility Act (5 U.S.C. 601 et seq.)

Though the ultimate prohibition of recreational snowmobiles use in these three parks in this rule may initially cause a loss of income to local communities around the parks, the NPS is undertaking several significant steps to mitigate the economic impacts.

First, elimination of snowmobiles from most of the areas in the three parks will be phased over four winter seasons. The gradual elimination of this type of recreational activity will allow a significant period of time for the small businesses in surrounding communities to adjust their mode of serving park visitors. An abrupt prohibition on snowmobiles from the three parks would have had a much more significant adverse effect on small businesses in these communities.

Second, while snowmobile use in these parks will be curtailed, access will be provided by multi-passenger snowcoaches and the parks will remain open in winter to serve visitors. With elimination of the impacts of snowmobiles and replacement with snowcoaches, the winter capacity of the parks to accommodate visitors will actually increase, providing the potential for economic expansion in surrounding communities.

Third, during the third winter of the phase-out schedule, snowmobile use in Yellowstone National Park will require group travel with a certified and trained commercial guide. This guided trip requirement will offer an additional employment opportunity for private individuals and small businesses in the surrounding communities.

Fourth, snowcoach access to the parks will require a concession permit from the NPS. These permits will be awarded to numerous small businesses in the surrounding communities. To make this initial business opportunity a smooth transition, NPS has authority to offer temporary commercial use permits for up to three years without regard to competition or numerical limitations (except for keeping the total number of permits below a level that would cause adverse impacts to park resources). NPS will utilize its discretion under this authority to support existing businesses in the surrounding communities during this initial period of years. As a consequence, these existing businesses will experience a shift in their business activity, not elimination of it.

Finally, NPS recognizes that significant changes in visitor use patterns often cause confusion and misinformation among the general public and potential visitors. Therefore, NPS will join with the affected states' travel and tourism offices and their counterparts in the five surrounding counties, as well as the various destination marketing organizations and the state and national levels, to market winter visitation to Yellowstone and Grand Teton without snowmobiles. NPS has committed $100,000 of its FY 2001 funding for this purpose.

We solicit comments on the potential impacts that this rule may have on small entities. We welcome comments with information regarding the number and type of entities impacted, the specific costs that may be imposed by this rule on small entities, and whether and why these impacts may be considered significant.

Small Business Regulatory Enforcement Fairness Act (SBREFA)

This rule is not a major rule under 5 U.S.C. 804(2), the Small Business Regulatory Enforcement Fairness Act. This rule:

a. Does not have an annual effect on the economy of $100 million or more. From the FEIS, estimated economic loss and employment impacts of implementing actions under this rule are: In the five-county, greater Yellowstone area, an estimated loss of 14.4 to 19.2 million dollars; in the three state area surrounding the parks, a possible loss of 17.7 million dollars to a possible increase of 7.0 million dollars. Increased winter visitation from current summer visitors to the park under this management option could substantially offset the estimated loss and employment reductions from current winter visitors.

b. Will not cause a major increase in costs or prices for consumers, individual industries, Federal, State, or local government agencies, or geographic regions.

The potential loss of revenue from snowmobile users will likely be offset by visitors using mass transit methods of visiting the park. Additionally, the summer visitation to the region would continue to exist and wouldn't likely cause the local business to need to raise prices to maintain an income.

c. Does not have significant adverse effects on competition, employment, investment, productivity, innovation, or the ability of U.S.-based enterprises to compete with foreign-based enterprises.

This rulemaking has no effect on methods of manufacturing or production and specifically effects the Wyoming region, not national or U.S. based enterprises.

Unfunded Mandates Reform Act

This rule does not impose an unfunded mandate on State, local, or tribal governments or the private sector of more than $100 million per year. The rule does not have a significant or unique effect on State, local or tribal governments or the private sector.

This rule addresses public access issues and management of resources within the agency. It imposes no other requirements on other agencies or governments. Mandates only exist if visitors or concessioners desire to operate oversnow vehicles within the park.

Takings (E.O. 12630)

In accordance with Executive Order 12630, the rule does not have significant takings implications.

This rule proposes to abolish routes designated for snowmobile use in NPS regulations. Private property within the boundaries of those parks will still be afforded access during the winter use season. No other property is affected.

Federalism (E.O. 13132)

In accordance with Executive Order 13132, the rule does not have sufficient federalism implications to warrant the preparation of a Federalism Assessment.

This proposed rule effects use by the public of NPS administered lands. It has no outside effects on other areas and only addresses a portion of the use within the parks.

Civil Justice Reform (E.O. 12988)

In accordance with Executive Order 12988, the Office of the Solicitor has determined that this rule does not unduly burden the judicial system and meets the requirements of sections 3(a) and 3(b)(2) of the Order.

Paperwork Reduction Act

This regulation does not require an information collection from 10 or more parties and a submission under the Paperwork Reduction Act is not required. An OMB for 83-I is not required.

National Environmental Policy Act

This rule constitutes a major Federal action significantly affecting the quality of the human environment.

An Environmental Impact Statement has been completed and a Record of Decision issued to support that statement. A copy of the EIS is available by contacting the Superintendent of Yellowstone or Grand Teton National Parks.

Government-to-Government Relationship With Tribes

In accordance with the President's memorandum of April 29, 1994, “Government to Government Relations with Native American Tribal Governments” (59 FR 22951) and 512 DM 2:

We have evaluated potential effects on federally recognized Indian tribes and have determined that there are no potential effects.

Numerous tribes surrounding the greater Yellowstone area were consulted in the development of the Winter Use Plan and FEIS. The chief concerns expressed by the tribes were the affects on wildlife by snowmobiles. This rule serves to address those concerns (to a degree) but has no effect on tribal lands or trusts.

Clarity of Rule

Executive Order 12866 requires each agency to write regulations that are easy to understand. We invite your comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to read if it were divided into more (but shorter) sections? (A “section appears in bold type and is precede by the symbol “§ ” and a numbered heading; for example § 7.13 Yellowstone National Park [amended].) (5) Is the description of the rule in the SUPPLEMENTARY INFORMATION section of the preamble helpful in understanding the proposed rule? What else could we do to make the rule easier to understand?

Send a copy of any comments that concern how we could make this rule easier to understand to: Office of Regulatory Affairs, Department of the Interior, Room 7229, 1849 C Street NW, Washington, DC 20240. You may also e-mail the comments to this address: Exsec@ios.doi.gov.

Public Participation

If you wish to comment, you may submit your comments by any one of several methods. You may mail comments to the National Park Service, Ranger Activities Division, 1849 C Street, N.W., Washington, DC 20240. You may also comment via the Internet to WASO_Regulations@nps.gov. Please submit Internet comments as an ASCII file avoiding the use of special characters and any form of encryption. Please also include “Attn: 1024-AC82” in the subject line and your name and return address in the body of your Internet message. Finally, you may hand deliver comments to Kym Hall, Regulations Program Manager, National Park Service, 1849 C Street, N.W., Room 7413, Washington, DC. Our practice is to make comments, including names and addresses of respondents, available for public review during regular business hours. Individual respondents may request that we withhold their home address from the rulemaking record, which we will honor to the extent allowable by law. If you wish us to withhold your name and/or address, you must state this prominently at the beginning of your comment. However, we will not consider anonymous comments. We will make all submissions from organization or businesses, and from individual identifying themselves as representatives or officials of organization or businesses, available for public inspection in their entirety.

Drafting Information

The principle contributors to this proposed rule are Stephen C. Saunders, Deputy Assistant Secretary of the Interior for Fish and Wildlife and Parks; T. Destry Jarvis, Senior Advisor to the Assistant Secretary for Fish and Wildlife and Parks; Karen S. Kovacs, Senior Advisor to the Assistant Secretary for Fish and Wildlife and Parks; Michael Tiernan, Attorney-Advisor, Solicitor's Office; Debra Hecox, Attorney-Advisory, Solicitor's Office; Kym A. Hall, NPS Regulations Program Manager; Sarah Creachbaum, Outdoor Recreation Planner, Grand Teton National Park; Bob Rossman, Outdoor Recreation Planner, Grand Teton National Park; and John Sacklin, Supervisory Planner, Yellowstone National Park.

List of Subjects in 36 CFR Part 7

District of Columbia, National parks, Reporting and recordkeeping requirements.

We propose to amend 36 CFR Part 7 as set forth below:

PART 7—SPECIAL REGULATIONS, AREAS OF THE NATIONAL PARK SYSTEM

1. The authority for Part 7 continues to read as follows:

Authority: 16 U.S.C. 1, 3, 9a, 460(q) 462(k); Sec. 7.96 also issued under D.C. Code 8-137 (1981) and D.C. Code 40-721 (1981).

§ 7.13 Yellowstone National Park.

2. Paragraph (l) of § 7.13 is revised to read as follows:

* * * * *

(l)(1) May I operate a snowmobile in Yellowstone National Park? You may operate a snowmobile in Yellowstone National Park in compliance with the public use limits and operating conditions established in this regulation during the winter use seasons of 2001-2002 and 2002-2003. Effective November 15, 2003, snowmobile use in Yellowstone National Park is prohibited, except for essential administrative use and in emergency situations as determined by the Superintendent.

(2) What is a winter use season? A winter use season is that portion of the winter months that begins each year in approximately late November, through the following year ending in approximately the middle of March. Specific dates are dependent on weather conditions and the availability of NPS facilities and resources and may be adjusted at the discretion of the Superintendent. Appropriate notice will be given to the public of determined start and ending dates each season.

(3) When snowmobile use is authorized, where may I operate my snowmobile? You may operate your snowmobile upon designated routes established within the park. On designated routes, snowmobile use is limited to the unplowed roadway, which is distinguished as that portion of the roadway located between the road shoulders and is designated by snow poles or other poles, ropes, fencing, or signs erected to regulate snowmobile activity. The unplowed roadway may also be distinguished by the interior boundaries of the berm created by the packing and grooming of the unplowed roadway. Snowmobiles may also be operated in pullouts or parking areas that are groomed or marked similarly to roadways.

(4) What routes are designated for snowmobile use in the park? During the winter use seasons of 2001-2002 and 2002-2003, the following routes may be designated for snowmobile use:

(i) The Grand Loop Road from its junction with Terrace Springs Drive to Norris Junction.

(ii) Norris Junction to Canyon Junction.

(iii)The Grand Loop Road from Norris Junction to Madison Junction.

(iv) The West Entrance Road from the park boundary at West Yellowstone to Madison Junction.

(v) The Grand Loop Road from Madison Junction to West Thumb.

(vi) The South Entrance Road from the South Entrance to West Thumb.

(vii)The Grand Loop Road from West Thumb to its junction with the East Entrance Road.

(viii) The East Entrance Road from the East Entrance to its junction with the Grand Loop Road.

(ix) The Grand Loop Road from its junction with the East Entrance Road to Canyon Junction.

(x) The South Canyon Rim Drive.

(xi) Any groomed or marked pullouts or parking areas along each of these routes.

(xii) In the developed areas of Madison Junction, Old Faithful, Grant Village, Lake, Fishing Bridge, Canyon, Indian Creek, and Norris, snowmobile routes to scenic points of interest, lodging, and other facilities will be designated by appropriate snow poles and signs and will be limited to the unplowed roadways in those areas.

(xiii) The Superintendent may open or close these routes after taking into consideration the location of wintering wildlife, appropriate snow cover, and other factors that may relate to public safety.

(xiv) Maps detailing the designated routes will be available from Park Headquarters.

(5) What criteria may the Superintendent use to determine the routes within the developed areas mentioned in paragraph (l)(4)(xii)? The Superintendent may use a variety of criteria to determine use routes within the developed areas of Madison Junction, Old Faithful, Grant Village, Lake, Fishing Bridge, Canyon, Indian Creek and Norris including the most direct route of access, weather and snow conditions, and those routes necessary to eliminate congestion and improve the circulation of the visitor use patterns in the interest of public safety.

(6) What limits are established for the numbers of snowmobiles permitted to use the park each day? (i) For the winter use season of 2001-2002, the numbers of snowmobiles allowed to use the park each day are listed in the table below.

Park entrance gate or area | Number of snowmobiles*
Yellowstone NP
North entrance | 60
West entrance | 1030
East entrance | 100
South entrance | 330
* Maximum daily allowed per gate.

(ii) For the winter use season 2002-2003, the numbers of snowmobiles allowed to use the park each day are listed in the table below.

Park entrance gate or area | Number of snowmobiles
Yellowstone NP
North entrance | 60
West entrance | 278
East entrance | 65
South entrance | 90
* Maximum daily allowed per gate.

(7) May I operate a snowcoach in Yellowstone National Park? Snowcoaches may be operated in Yellowstone National Park under a Concessions Contract or Permit authorized by the Superintendent. Snowcoach operation is subject to the conditions of the permit and all other conditions identified in this section.

(8) What is a snowcoach? A snowcoach is a self-propelled mass transit vehicle intended for travel on snow, having a curb weight of over 1000 pounds (450 kilograms), driven by a track or tracks and steered by skis or tracks, having a capacity of at least 8 passengers.

(9) What routes are designated for snowcoach use? Snowcoaches may operate on the same routes designated for snowmobile use in paragraph (l)(4) of this section and the following designated routes:

(i) Firehold Canyon Drive.

(ii) Fountain Flat Road.

(iii) Virginia Cascades Drive.

(iv) North Canyon Rim Drive.

(v) Riverside Drive.

(vi) Lake Butte Overlook Drive.

(vii) The portion of the Grand Loop Road from Canyon Junction to Washburn Hot Springs Overlook.

(10) What other conditions are placed on snowmobile and snowcoach operations? Snowmobiles and snowcoaches may be operated in the park under the following conditions:

(i) Snowmobiles and snowcoaches may not be operated in the park between the hours of 9:00 p.m. and 8:00 a.m. except by authorization.

(ii) Idling a snowmobile or snowcoach is limited to 10 minutes at any one time.

(iii) Snowmobiles or snowcoaches that stop on designated routes must pull over to the far right next to the snow berm. Stopping the vehicle in a hazardous location, or where the view of the vehicle might be obscured, such as on a curve, is prohibited. Pullouts must be utilized when available and accessible.

(iv) Snowmobiles and snowcoaches must be properly registered and display a valid state registration sticker.

(v) Snowmobile operators must possess a valid state motor vehicle operator's license or learner's permit. The license or permit must be carried on the operator's person at all times.

(vi) Persons operating a snowmobile while possessing a learner's permit must be accompanied and supervised within line of sight, but no further than 100 yards, by a responsible person 21 years of age or older possessing a valid state motor vehicle operator's license.

(vii) Allowing or permitting an unlicensed driver to operate a snowmobile is prohibited.

(viii) During the winter use season of 2002-2003, snowmobiles must be accompanied by an NPS permitted guide and may not travel in groups of more than 11 snowmobiles.

(11) May I operate a snowplane in the park? No, the operation of snowplanes in Yellowstone National Park is prohibited.

(12) What is a snowplane? A snowplane is a self-propelled vehicle intended for over-the-snow travel and driven by a pusher-propeller.

(13) Are there any other forms of over-snow transportation allowed in the park? No other forms of motorized over-snow transportation are permitted for use in the park unless specifically approved by the Superintendent and are consistent with the requirements of the Winter Use Plan and the applicable Executive Orders.

* * * * *

§ 7.21 John D. Rockefeller, Jr., Memorial Parkway.

3. Paragraph (a) of § 7.21 is revised to read as follows:

(a)(1) May I operate a snowmobile in the Parkway? You may operate a snowmobile in the Parkway in compliance within the public use limits and operating conditions established in this regulation during the winter use seasons of 2001-2002 and 2002-2003. Effective November 15, 2003, snowmobile use in the Parkway is prohibited except for essential administrative use and in emergency situations as determined by the Superintendent.

(2) What is a winter use season? A winter use season is that portion of the winter months that begins each year in approximately late November through the following year ending in approximately the middle of March. Dates are dependent on weather conditions and the availability of NPS facilities and resources and may be adjusted at the discretion of the Superintendent. Appropriate notice will be given to the public of determined start and ending dates each season.

(3) What routes are designated for snowmobile use in the Parkway? During the winter use seasons of 2001-2002 and 2002-2003, the following routes may be designated for snowmobile use:

(i) The Continental Divide Snowmobile Trail (CDST) along U.S. Highway 89/287 from the southern boundary of the Parkway to Flagg Ranch.

(ii) Along U.S. Highway 89/287 from Flagg Ranch to the northern boundary of the Parkway.

(iii) Grassy Lake Road from Flagg Ranch to the western boundary of the Parkway.

(iv) The Superintendent may open or close these routes after taking into consideration the location of wintering wildlife, appropriate snow cover, and other factors that may relate to public safety.

(v) Maps detailing the designated routes will be available from Park Headquarters.

(4) What limits are established for the numbers of snowmobiles permitted to use the Parkway each day? (i) For the winter use season of 2001-2002, the numbers of snowmobiles allowed to use the Parkway each day are listed in the table below.

Park entrance gate or area | Number of snowmobiles*
John D. Rockefeller, Jr., Memorial Parkway
Continental Divide Snowmobile Trail (along U.S. 89/287) from the southern boundary of the Parkway to Flagg Ranch | 70
(Along U.S. 89/287) Flagg Ranch to northern boundary of Parkway | 330
Grassy Lake Road | 40
*Maximum daily allowed per gate.

(ii) For the winter use season 2002-2003, the numbers of snowmobiles allowed to use the Parkway each day are listed in the table below.

Park entrance gate or area | Number of snowmobiles*
John D. Rockefeller, Jr., Memorial Parkway
Continental Divide Snowmobile Trail (along U.S. 89/287) from the southern boundary of the JDR Parkway to Flagg Ranch | 25
(Along U.S. 89/287) Flagg Ranch to northern boundary of Parkway | 90
Grassy Lake Road | 25
*Maximum daily allowed per gate.

(5) May I operate a snowcoach in the Parkway? Snowcoaches may be operated in the Parkway under a Concessions Contract or Permit authorized by the Superintendent. Snowcoach operation is subject to the conditions of the permit and all other conditions identified in this section.

(6) What is a snowcoach? A snowcoach is a self-propelled mass transit vehicle intended for travel on snow, having a curb weight of over 1000 pounds (450 kilograms), driven by a track or tracks and steered by skis or tracks, having a capacity of at least 8 passengers.

(7) What routes are designated for snowcoach use? Snowcoaches may operate on the routes designated for snowmobile use in paragraph (a)(3)(ii) and (iii) of this section.

(8) What other conditions are placed on snowmobile and snowcoach operations? Snowmobiles and snowcoaches may be operated under the following conditions:

(i) Snowmobiles or snowcoaches may not be operated in the Parkway between the hours of 9 p.m. and 8 a.m. except by authorization.

(ii) Snowmobiles or snowcoaches that stop on designated routes must pull over to the far right next to the snow berm. Stopping the vehicle in a hazardous location, or where the view of the vehicle might be obscured, such as on a curve, is prohibited. Pullouts must be utilized when available and accessible.

(iii) Snowmobiles and snowcoaches must be properly registered and display a valid state registration sticker.

(iv) Snowmobile operators must possess a valid state motor vehicle operator's license or learner's permit. The license or permit must be carried on the operator's person at all times.

(v) Persons operating a snowmobile while possessing a learner's permit must be accompanied and supervised within line of sight, but no further than 100 yards, by a responsible person 21 years of age or older possessing a valid state motor vehicle operator's license.

(vi) Allowing or permitting an unlicensed driver to operate a snowmobile is prohibited.

(vii) During the winter use season of 2002-2003, the Superintendent may determine that snowmobiles be required to be accompanied by an NPS permitted guide or to travel in groups of not more than 11 snowmobiles.

(9) May I operate a snowplane in the Parkway? No, the operation of snowplanes in the Parkway is prohibited.

(10) What is a snowplane? A snowplane is a self-propelled vehicle intended for over-the-snow travel and driven by a pusher-propeller.

(11) Are there any other forms of over-snow transportation allowed in the Parkway? No other forms of motorized over-snow transportation are permitted for use in the Parkway unless specifically approved by the Superintendent and are consistent with the requirements of the Winter Use Plan and the applicable Executive Orders.

4. Revise paragraph (g) of § 7.22 to read as follows:

§ 7.22 Grand Teton National Park.

* * * * *

(g)(1) May I operate a snowmobile in Grand Teton National Park? You may operate a snowmobile in Grand Teton National Park in compliance with the public use limits and operating standards established by the Superintendent during the winter use seasons of 2001-2002 and 2002-2003. Effective the winter use season of 2003-2004, snowmobile use will be restricted to the routes and purposes in paragraph (g)(8), (g)(9), (g)(10) and (g)(11) of this section. All other snowmobile use is prohibited, except for essential administrative use and in emergency situations as determined by the Superintendent.

(2) What is a winter use season? A winter use season is that portion of the winter months that begins each year in approximately late November, through the following year ending in approximately the middle of March. Specific dates are dependent on weather conditions and the availability of park facilities and resources and may be adjusted at the discretion of the Superintendent. Appropriate notice will be given to the public of determined start and ending dates each season.

(3) What routes are designated for snowmobile use in the park? For the winter use season of 2001-2002, the following routes may be designated for snowmobile use:

(i) Teton Park Road from Taggert Lake Trailhead to Signal Mountain Lodge. Additional side routes open from this route include the Signal Mountain Road to the summit of Signal Mountain, the access road to String and Jenny Lakes and the scenic route to Jenny Lake's east side, and the gravel surface road to Spalding Bay at the south end of Jackson Lake.

(ii) Moose-Wilson Road from the Granite Canyon Trailhead to the JY Ranch entrance.

(iii) The unpaved road paralleling the eastern park boundary from the Shadow Mountain access to Cunningham Cabin, and the access road from U.S. 26/89 near the Snake River Overlook east to the unpaved road.

(iv) The Continental Divide Snowmobile Trail (CDST) along U.S. 26/287 from Moran to the eastern park boundary, and along U.S. 89/287 from Moran to the north boundary of the park including the side route from Jackson Lake Junction to Signal Mountain Lodge.

(v) The frozen surface of Jackson Lake.

(vi) Any groomed or marked pullouts or parking areas along each of these routes.

(vii) The Superintendent may open or close these routes after taking into consideration the location of wintering wildlife, appropriate snow cover, and other factors that may relate to public safety.

(viii) Maps detailing designated routes will be available from Park Headquarters.

For the winter use season of 2002-2003, the following route may be designated for snowmobile use:

(ix) The CDST along U.S. 26/287 from Moran to the eastern park boundary and along U.S. 89/287 from Moran to the north park boundary.

(4) What limits are established for the numbers of snowmobiles permitted to use the park each day? (i) For the winter use season 2001-2002, the numbers of snowmobiles allowed to use the park each day are listed in the tables below.

Park entrance gate or area | Number of snowmobiles*
Grand Teton NP
Teton Park Road | 20
Moose Wilson Road | 10
Continental Divide Snowmobile Trail from the east park boundary (along U.S. 26/287) to northern park boundary (along U.S. 89/287) | 70
Jackson Lake | 30
*Maximum daily allowed per gate.

(ii) For the winter use season 2002-2003, the numbers of snowmobiles allowed to use the park each day are listed in the table below.

Park entrance gate or area | Number of snowmobiles*
Grand Teton NP
Continental Divide Snowmobile Trail from east park boundary (along U.S. 26/287) to northern park boundary (along U.S. 89/287) | 25
*Maximum daily allowed per gate.

(5) What other conditions are placed on snowmobile operations? Snowmobiles may be operated in the park under the following conditions:

(i) Snowmobiles may not operate in the park between the hours of 9:00 p.m. and 8:00 a.m. except by authorization.

(ii) Snowmobiles that stop on designated routes must pull over to the far right next to the snow berm. Stopping the vehicle in a hazardous location, or where the view of the vehicle might be obscured, such as on a curve, is prohibited. Pullouts must be utilized when available and accessible.

(iii) Snowmobiles must be properly registered and display a valid state registration sticker.

(iv) Snowmobile operators must possess a valid state motor vehicle operator's license or learner's permit. The license or permit must be carried on the operator's person at all times. Snowmobile operators are not required to possess a valid drivers license while operating on the public access routes designated in paragraph (g)(8) and the private property access routes designated in paragraph (g)(10) of this section.

(v) Persons operating a snowmobile while possessing a learner's permit must be accompanied and supervised within line of sight, but no farther than 100 yards, by a responsible person 21 years of age or older possessing a valid state motor vehicles operator's license.

(vi) Allowing or permitting an unlicensed driver to operate a snowmobile is prohibited.

(vii) During the winter use season of 2002-2003, the Superintendent may require that snowmobiles be accompanied by an NPS permitted guide and must travel in groups of not more than 11 snowmobiles.

(6) May I operate a snowplane in the park? If you had a permit to operate snowplane on Jackson Lake during the winter use season 2000-2001, you may obtain a permit to operate a snowplane on Jackson Lake during the winter use season of 2001-2002. Beginning the winter use season 2002-2003, snowplane use in Grand Teton National Park is prohibited.

(7) What is a snowplane? A snowplane is a self-propelled vehicle intended for over-the-snow travel and driven by a pusher-propeller.

(8) May I continue to access public lands via snowmobile through the park? Yes, reasonable and direct access via snowmobile to adjacent public lands will continue to be permitted on designated routes through Grand Teton National Park. The following routes are designated for access via snowmobile to public lands:

(i) From the parking area at Shadow Mountain directly along the unplowed portion of the road to the east park boundary.

(ii) Along the unplowed portion of the Ditch Creek Road directly to the east park boundary.

(iii) From the Cunningham Cabin pullout on U.S. 26/89 near Triangle X to the east park boundary.

(9) For what purpose may I use the routes designated in paragraph (g)(8)? You may use those routes designated in paragraph (g)(8) of this section to gain direct access to public lands adjacent to the park boundary.

(10) May I continue to access private property within or adjacent to the park via snowmobile? Yes, reasonable and direct access via snowmobile to private property will continue to be permitted via designated routes in Grand Teton National Park. The following routes are designated for access to private property within or adjacent to the park:

(i) The unplowed portion of Antelope Flats Road off U.S. 26/89 to private lands in the Craighead Subdivision.

(ii) The unplowed portion of the Teton Park Road to that piece of land commonly referred to as the “Clark Property”.

(iii) From the Moose-Wilson Road to the land commonly referred to as the “Barker Property” until the Department of the Interior takes full possession of that land.

(iv) From the Moose-Wilson Road to the land commonly referred to as the “Wittimer Property” until the Department of the Interior takes full possession of that land.

(v) From the Moose-Wilson Road to those two pieces of land commonly referred to as the “Halpin Properties”.

(vi) From either end of the plowed sections of the Moose-Wilson Road to that piece of land commonly referred to as the “JY Ranch”.

(vii) From Highway 26/89/187 to those lands commonly referred to as the “Meadows”, the “Circle EW Ranch”, the “Moulton Property”, the “Levinson Property” and the “West Property”.

(viii) From Cunningham Cabin pullout on U.S. 26/89 near Triangle X the piece of land commonly referred to as the “Lost Creek Ranch”.

(ix) Maps detailing designated routes will be available from Park Headquarters.

(11) For what purpose may I use the routes designated in paragraph (g)(10)? Those routes designated in paragraph (g)(10) of this section are to access private property within or directly adjacent to the park boundary. Use of these roads via snowmobile is authorized only for the landowner or their representatives or guests. Recreational use of these roads by anyone is prohibited.

(12) Are there any forms of over-snow transportation allowed in the park? No other forms of motorized over-snow transportation are permitted for use in the park unless specifically approved by the Superintendent and are consistent with the requirements of the Winter Use Plan and the applicable Executive Orders.

Dated: December 13, 2000.
Stephen C. Saunders,
Acting Assistant Secretary, Fish and Wildlife and Parks.

[FR Doc. 00-32144 Filed 12-15-00; 8:45 am]

BILLING CODE 4310-70-P